DEPARTMENT OF COMMERCE

National Oceanic and Atmospheric Administration

RIN 0648-XF442

Magnuson-Stevens Act Provisions; General Provisions for Domestic Fisheries; Application for Exempted Fishing Permits

AGENCY: National Marine Fisheries Service (NMFS), National Oceanic and Atmospheric Administration (NOAA), Commerce.

ACTION: Notice and request for comments.

SUMMARY: The Assistant Regional Administrator for Sustainable Fisheries, Greater Atlantic Region, NMFS, has made a preliminary determination that an Exempted Fishing Permit application contains all of the required information and warrants further consideration. The Exempted Fishing Permit would allow commercial fishing vessels to fish outside of scallop regulations in support of research conducted by the Coonamessett Farm Foundation. These exemptions would support research conducted on trips to test gear modifications for bycatch reduction in the scallop dredge fishery.

Regulations under the Magnuson-Stevens Fishery Conservation and Management Act require publication of this notification to provide interested parties the opportunity to comment on applications for proposed Exempted Fishing Permits.

DATES: Comments must be received on or before June 23, 2017.

ADDRESSES: You may submit written comments by any of the following methods:

• Email: nmfs.gar.efp@noaa.gov. Include in the subject line “CFF Compensation Fishing Gear Research EFP.”

• Mail: John K. Bullard, Regional Administrator, NMFS, Greater Atlantic Regional Fisheries Office, 55 Great Republic Drive, Gloucester, MA 01930. Mark the outside of the envelope “Comments on CFF Compensation Fishing Gear Research EFP.”

FOR FURTHER INFORMATION CONTACT: Alyson Pitts, Fisheries Management Specialist, (978) 281-9352.

SUPPLEMENTARY INFORMATION: Coonamessett Farm Foundation (CFF) submitted a complete application for an Exempted Fishing Permit (EFP) on May 4, 2017, that would allow gear research to be conducted by vessels on compensation fishing trips associated with projects funded by the 2017 Scallop Research Set-Aside (RSA) program. The exemptions would allow 19 commercial fishing vessels to exceed the crew size regulations at 50 CFR 648.51(c) in order to place a researcher on the vessel, and temporarily exempt the participating vessels from possession limits and minimum size requirements specified in 50 CFR part 648, subparts B and D through O, for sampling purposes only. Any fishing activity conducted outside the scope of the exempted fishing activity would be prohibited, including landing fish in excess of a possession limit or below the minimum size.

Experimental fishing activity would test gear modifications in an attempt to reduce finfish bycatch in the scallop dredge fishery. The gear modifications that would be tested adhere to current scallop gear regulations and include:

• A “daylight skirt”: 1 to 2 rows of 12-in by 12-in windows are cut into the twine top/skirt of the top of the scallop dredge bag;

• An extended link apron: Two links are used to connect the rings of the dredge apron to increase the inner ring spacing from ~3.5″ to ~4.5″;

• A “fish sweep”: A cookie sweep affixed to the front of the headbale;

• A low profile dredge: The frame is 4″ shorter in height than a traditional scallop dredge.

All trips would take place in scallop fishing areas open to the entire Atlantic sea scallop fishery. Exemption from crew size limits is needed because a research technician would accompany vessels on the compensation fishing trips to collect catch data associated with different dredge modifications. The crew size exemption would be for approximately 120 days-at-sea and would be used in conjunction with a valid compensation fishing letter of authorization. The technician would only engage in data collection activities, and would not process catch to be landed for sale. Exemption from possession limit and minimum sizes would support catch sampling activities, and ensure the vessel is not in conflict with possession regulations while collecting catch data. All catch above a possession limit or below a minimum size would be discarded as soon as possible following data collection. All bycatch would be returned to the sea as soon as practicable following data collection; estimated catch totals are listed below on Table 1. All research trips would otherwise be consistent with normal commercial fishing activity and catch would be retained for sale.

Table 1—Estimated Bycatch for CFF EFP Compensation Trips
Species | Scientific name | Number | Weight (lb) | Weight (kg)
NE Skate Complex | Rajidae Species | 96,500 | 120,000 | 54,431
Barndoor Skate | Dipturus laevis | 400 | 750 | 340
Summer Flounder | Paralichthys dentatus | 120 | 200 | 90
Winter Flounder | Pseudopleuronectes americanus | 250 | 550 | 249
Yellowtail Flounder | Limanda ferruginea | 1,750 | 1,500 | 680
Windowpane Flounder | Scopthalmus aquosus | 1,750 | 1,500 | 680
Monkfish | Lophius americanus | 2000 | 4,500 | 2,041

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 2, 2017.
Margo B. Schulze-Haugen,
Acting Deputy Director, Office of Sustainable Fisheries, National Marine Fisheries Service.

[FR Doc. 2017-11884 Filed 6-7-17; 8:45 am]

BILLING CODE 3510-22-P